FEDERAL COMMUNICATIONS COMMISSION

Notice of Public Information Collection(s) Being Reviewed by the Federal Communications Commission, Comments Requested

November 26, 2003.

SUMMARY: The Federal Communications Commission, as part of its continuing effort to reduce paperwork burden invites the general public and other Federal agencies to take this opportunity to comment on the following information collection(s), as required by the Paperwork Reduction Act (PRA) of 1995, Pub. L. No. 104-13. An agency may not conduct or sponsor a collection of information unless it displays a currently valid control number. No person shall be subject to any penalty for failing to comply with a collection of information subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before February 6, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0686.

Title: Streamlining the Internet Section 214 Authorization Process and Tariff Requirements.

Form No.: N/A.

Type of Review: Extension of a currently approved collection.

Respondents: Business or other for-profit.

Number of Respondents: 1,650.

Estimated Time Per Response: .50—3,208 hours.

Frequency of Response: On occasion, quarterly and annual reporting requirements, third party disclosure requirement and recordkeeping requirement.

Total Annual Burden: 73,896 hours.

Total Annual Cost: $12,467,000.

Needs and Uses: On 9/12/00, the Commission adopted an Order on Reconsideration in IB Docket No. 97-142, Rules and Policies on Foreign Participation in the U.S. Telecommunications Market, which addressed petitions seeking reconsideration of the Report and Order in this proceeding in which the Commission modified its rules and policies regarding foreign participation in the U.S. telecommunications market. The Order on Reconsideration, drafted in response to the Telecommunications Act of 1996, mandates the FCC to undertake, in every even-numbered year beginning in 1998, a review of all regulations issued under the Communications Act and to eliminate unnecessary government regulation of the telecommunications industry. The information collections pertaining to Part 63 are necessary largely to determine the qualifications of applicants to provide common carrier international telecommunications service, including applicants that are affiliated with foreign carriers, and to determine whether and under what conditions the authorizations are in the public interest, convenience and necessity. The information collections pertaining to Part 1 of the rules are necessary to determine whether the FCC should grant a license for proposed submarine cables landing in the United States.

OMB Control No.: 3060-0855.

Title: Telecommunications Reporting Worksheet, CC Docket No. 96-45.

Form Nos.: FCC Forms 499, 499-A and 499-Q.

Type of Review: Revision of a currently approved collection.

Respondents: Business or other for-profit and not-for-profit institutions.

Number of Respondents: 5,500 respondents; 15,500 responses.

Estimated Time Per Response: 13 hours.

Frequency of Response: On occasion, quarterly, annual and one-time reporting requirements, third party disclosure requirement and recordkeeping requirement.

Total Annual Burden: 201,500 hours.

Total Annual Cost: N/A.

Needs and Uses: This year the Commission modified the way in which it calculates universal service contributions. The Commission will be incorporating changes to the Telecommunications Worksheet, FCC Form 499-A, to reflect the revised methodology and resulting changes in the true-up process. We are anticipating a moderate increase to the total annual burden as a result of revising FCC Form 499-A.

OMB Control No.: 3060-0684.

Title: Amendment to the Commission's Rules Regarding a Plan for Sharing the Costs of Microwave Relocation.

Form No.: N/A.

Type of Review: Revision of a currently approved collection.

Respondents: Business or other for-profit and not-for-profit institutions.

Number of Respondents: 2,000.

Estimated Time Per Response: .875—40 hours.

Frequency of Response: On occasion, semi-annual and annual reporting requirements, third party disclosure requirement and recordkeeping requirement.

Total Annual Burden: 32,200 hours.

Total Annual Cost: $862,000.

Needs and Uses: The information collections in this proceeding are necessary to effectuate the relocation of fixed microwave incumbents from the 2 GHz band to clear spectrum for the development of Personal Communications Services (PCS). In addition, the collections are necessary to effectuate the Commission's plan for PCS relocators and subsequent PCS licensees to share the costs of relocating existing 2 GHz microwave facilities, thus providing for a fair and efficient relocation process. The information is used by respondents to negotiate relocation costs and submit relocation information to the clearinghouse; and two clearinghouses to determine the reimbursement obligations owed by later-entrant PCS entities. This information collection makes the following additions to the currently approved collection: (1) Reflects an additional burden of independent third party appraisal of the relocation costs for self-relocating incumbents; and (2) reflects a new estimate of the burden on industry to set up and maintain the clearinghouses.

Federal Communications Commission.
Marlene H. Dortch,
Secretary.

[FR Doc. 03-30307 Filed 12-5-03; 8:45 am]

BILLING CODE 6712-01-P